DEPARTMENT OF TRANSPORTATION

Federal Aviation Administration

14 CFR Part 39

[Docket No. FAA-2012-1056; Directorate Identifier 2012-NE-32-AD; Amendment 39-17271; AD 2012-24-01]

RIN 2120-AA64

Airworthiness Directives; Rolls-Royce Deutschland Ltd & Co KG Turbofan Engines

AGENCY: Federal Aviation Administration (FAA), DOT.

ACTION: Final rule; request for comments.

SUMMARY: We are adopting a new airworthiness directive (AD) for certain serial number (S/N) Rolls-Royce Deutschland Ltd & Co KG (RRD) TAY 620-15 turbofan engines. This AD requires initial and repetitive general inspections and ultrasonic inspections (UI) of low-pressure compressor (LPC) fan blades for cracks. If any fan blade is found cracked, this AD requires replacement of the LPC fan blade set and the LPC fan disc. This AD was prompted by a report of an LPC fan blade separation. We are issuing this AD to detect cracks in the LPC fan blades, which could lead to uncontained failure of the LPC fan blades and LPC fan disc, and damage to the airplane.

DATES: This AD becomes effective December 14, 2012.

We must receive comments on this AD by January 14, 2013.

ADDRESSES: You may send comments by any of the following methods:

• Federal eRulemaking Portal: Go to http://www.regulations.gov and follow the instructions for sending your comments electronically.

• Mail: U.S. Department of Transportation, 1200 New Jersey Avenue SE., West Building Ground Floor, Room W12-140, Washington, DC 20590-0001.

• Hand Delivery: Deliver to Mail address above between 9 a.m. and 5 p.m., Monday through Friday, except Federal holidays.

• Fax: 202-493-2251.

For service information identified in this AD, contact Rolls-Royce Deutschland Ltd & Co KG, Eschenweg 11, Dahlewitz, 15827 Blankenfelde-Mahlow, Germany; phone: 49 0 33-7086-1944; fax: 49 0 33-7086-3276. You may view this service information at the FAA, Engine & Propeller Directorate, 12 New England Executive Park, Burlington, MA 01803. For information on the availability of this material at the FAA, call 781-238-7125.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (phone: 800-647-5527) is the same as the Mail address provided in the ADDRESSES section. Comments will be available in the AD docket shortly after receipt.

FOR FURTHER INFORMATION CONTACT: Frederick Zink, Aerospace Engineer, Engine Certification Office, FAA, Engine & Propeller Directorate, 12 New England Executive Park, Burlington, MA 01803; phone: 781-238-7779; fax: 781-238-7199; email: Frederick.zink@faa.gov.

SUPPLEMENTARY INFORMATION:

Discussion

The European Aviation Safety Agency (EASA), which is the Technical Agent for the Member States of the European Community, has issued EASA Airworthiness Directive 2012-0185-E, dated September 12, 2012 (referred to after this as “the MCAI”), to correct an unsafe condition for the specified products. The MCAI states:

Fan blade off on a TAY 620-15 engine has recently been reported. Subsequent investigation results identified vibration induced by a fan blade flutter as a possible cause of fan blade root failure leading to blade off.

This condition, if not detected and corrected, could lead to the blade failure potentially causing release of high-energy debris, possibly resulting in damage to the aeroplane and/or injury to the occupants.

You may obtain further information by examining the MCAI in the AD docket.

FAA's Determination and Requirements of This AD

This product has been approved by EASA, and is approved for operation in the United States. Pursuant to our bilateral agreement with the European Community, EASA has notified us of the unsafe condition described in the MCAI and service information referenced above. We are issuing this AD because we evaluated all information provided by EASA and determined the unsafe condition exists and is likely to exist or develop on other products of the same type design. This AD requires initial and repetitive general inspections and UIs of LPC fan blades for cracks. If any fan blade is found cracked, this AD requires replacement of the LPC fan blade set and the LPC fan disc.

FAA's Determination of the Effective Date

No domestic operators use this product. Therefore, we find that notice and opportunity for prior public comment are unnecessary and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2012-1056 and Directorate Identifier 2012-NE-32-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-24-01 Rolls-Royce Deutschland Ltd & Co KG (formerly Rolls-Royce plc): Amendment 39-17271; Docket No. FAA-2012-1056; Directorate Identifier 2012-NE-32-AD.

(a) Effective Date

This airworthiness directive (AD) becomes effective December 14, 2012.

(b) Affected ADs

None.

(c) Applicability

This AD applies to Rolls-Royce Deutschland Ltd & Co KG (RRD) TAY 620-15 engines, serial numbers 17054, 17085, 17088, 17107, and 17166.

(d) Reason

This AD was prompted by a report of a low-pressure compressor (LPC) fan blade separation. We are issuing this AD to detect cracks in the LPC fan blades, which could lead to uncontained failure of the LPC fan blades and LPC fan disc, and damage to the airplane.

(e) Actions and Compliance

Unless already done, do the following actions:

(1) Before further flight after the effective date of this AD, perform a visual inspection and ultrasonic inspection of the LPC fan blades to determine general condition and/or the presence of cracks.

(2) Thereafter, perform the inspections specified in paragraph (e)(1) of this AD within every additional 1,500 flight hours (FHs), but not fewer than 1,000 FHs.

(3) If any fan blade is found cracked, replace the LPC fan blade set and the LPC fan disc before further flight.

(f) Terminating Action

Replacing the LPC fan blade set and the LPC fan disc is terminating action to the repetitive inspections required by this AD.

(g) Alternative Methods of Compliance (AMOCs)

The Manager, Engine Certification Office, FAA, may approve AMOCs to this AD. Use the procedures found in 14 CFR 39.19 to make your request.

(h) Related Information

(1) For more information about this AD, contact Frederick Zink, Aerospace Engineer, Engine Certification Office, FAA, Engine & Propeller Directorate, 12 New England Executive Park, Burlington, MA 01803; email: Frederick.zink@faa.gov; phone: 781-238-7779; fax: 781-238-7199.

(2) Refer to European Aviation Safety Agency AD 2012-0185-E, dated September 12, 2012, and RRD Alert Service Bulletin TAY-72-A1775, Revision 1, dated September 12, 2012, for related information.

(3) For service information identified in this AD, contact Rolls-Royce Deutschland Ltd & Co KG, Eschenweg 11, Dahlewitz, 15827 Blankenfelde-Mahlow, Germany; telephone: 49 0 33-7086-1944; fax: 49 0 33-7086-3276.

(4) You may view this service information at the FAA, Engine & Propeller Directorate, 12 New England Executive Park, Burlington, MA. For information on the availability of this material at the FAA, call 781-238-7125.

(i) Material Incorporated by Reference

None.

Issued in Burlington, Massachusetts, on November 19, 2012.
Robert J. Ganley,
Acting Manager, Engine & Propeller Directorate, Aircraft Certification Service.

[FR Doc. 2012-28638 Filed 11-28-12; 8:45 am]

BILLING CODE 4910-13-P